DEPARTMENT OF JUSTICE

Notice of Lodging of a Consent Decree Under the Comprehensive Environmental Response, Compensation, and Liability Act

Notice is hereby given that on November 23, 2009, a proposed Consent Decree in the case of United States v. Logistics Intnt'l—Georgia, Inc., No. 5:08CV00095, was lodged with the United States District Court for the Western District of Virginia.

In this proceeding, the United States filed a claim pursuant to Section 107 of the Comprehensive Environmental Response, Compensation, and Liability Act (“CERCLA”), 42 U.S.C. 9607, for reimbursement of costs incurred in connection with response actions taken at the I-81 Tractor Trailer Chemical Spill Superfund Site in Fort Defiance, Virginia. Pursuant to the Consent Decree, the Defendant agrees to pay $450,000 in reimbursement of costs previously incurred by the United States.

The Department of Justice will receive, for a period of thirty (30) days from the date of this publication, comments relating to the Consent Decree. Comments should be addressed to the Assistant Attorney General, Environment and Natural Resources Division, and either e-mailed to pubcomment-ees.enrd@usdoj.gov, or mailed to: P.O. Box 7611, U.S. Department of Justice, Washington, DC 20044-7611, and should refer to: U.S. v. Logistics Intnt'l, Inc., DJ. Ref. 90-11-3-09302.

The Consent Decree may be examined at U.S. EPA Region III, Office of Regional Counsel, 1650 Arch Street, Philadelphia, PA 19103-2029, c/o Mark Bolender, Esq. During the public comment period, the Consent Decree may also be examined at the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $ 4.75 (25 cents per page reproduction cost) payable to the U.S. Treasury or, if by e-mail or fax, forward a check in that amount to the Consent Decree Library at the stated address.

Maureen Katz,
Assistant Chief, Environmental Enforcement Section, Environment and Natural Resources Division.

[FR Doc. E9-28946 Filed 12-3-09; 8:45 am]

BILLING CODE 4410-15-P